DEPARTMENT OF THE INTERIOR

National Park Service

Official Trail Marker for the Santa Fe National Historic Trail

AGENCY: National Park Service, Interior.

ACTION: Official Insignia, Designation.

Authority: National Trail Systems Act, 16 U.S.C. 1241(a) and 1246c and Protection of Official Badges, Insignia, etc. in 18 U.S.C. 701.

SUMMARY: This notice issues the official trail marker insignia of the Santa Fe National Historic Trail. The original graphic image was developed as part of the Trail's comprehensive management and use plan and published in the Federal Register May 6, 1989. The National Park Service has officially used this insignia—and subsequent variations—since completion of planning documents for the Trail in 1990. It has been slightly redesigned since then so that lettering and framing match other National Trail System markers. The earlier designs which are still in use along the Trail are also protected from unauthorized uses by this notice. This publication accomplishes the official designation of the insignia now in use by the National Park Service.

SUPPLEMENTARY INFORMATION: The primary author of this document is Steven Elkinton, Program Leader for National Trails System Programming, National Center for Recreation and Conservation.

The insignia depicted below is prescribed as the official trail marker logo for the Santa Fe National Historic Trail, administered by the National Park Service, Long Distance Trails Group Office, Santa Fe, NM. Authorization for use of this trail marker is controlled by the administrator of the Trial.

In making this prescription, notice is hereby given that whoever manufactures, sells, or possesses this insignia, or any colorable imitation thereof, or photographs or prints or in any other manner makes or executes any engraving, photograph or print, or impression in the likeness of this insignia, or any colorable imitation thereof, without written authorization from the United States Department of the Interior is subject to the penalty provisions of section 701 of Title 18 of the United States Code.

FOR FURTHER INFORMATION CONTACT: Steven Elkinton, Program Leader for National Trails System Programming, NPS, ms-3622, U.S. Department of the Interior, 1849 C Street, NW., Washington, DC 20240, 202-565-1177.

Dated: March 16, 2000.
Denis P. Galvin,
Director.

[FR Doc. 00-7568 Filed 3-27-00; 8:45 am]

BILLING CODE 4310-70-M